DEPARTMENT OF JUSTICE

Revised Notice of Lodging of Proposed Consent Decree Under the Comprehensive Environmental Response, Compensation, and Liability Act

On March 14, 2018, the Department of Justice published notice of a proposed consent decree that it lodged on February 27, 2018, with the United States District Court for the Southern District of Ohio in the lawsuit entitled United States v. Bridgestone Americas Tire Operations, et al., Case No. 3:18-cv-00054 (S.D. Ohio). It has come to the attention of the Department of Justice that members of the public were unable to access a copy of the proposed consent decree on the Department's website. As a result, the Department of Justice is now publishing this revised notice, which will give members of the public 30 days from the publication date of this revised notice to review and comment on the proposed consent decree.

The proposed consent decree resolves claims of the United States Environmental Protection Agency (“EPA”) against seven defendants—Bridgestone Americas Tire Operations, LLC; Cargill, Inc.; Flowserve Corporation; Kelsey-Hayes Company; NCR Corporation; Northrop Grumman Systems Corporation, and Waste Management of Ohio (collectively “Defendants”)—for response costs and injunctive relief with respect to the North Sanitary (aka “Valleycrest”) Landfill Superfund Site in Dayton, Ohio (“Site”). A complaint, which was filed simultaneously with the proposed consent decree, alleges that the Defendants are liable under Sections 106, 107(a), and 113(g)(2) of the Comprehensive Environmental Response, Compensation, and Liability Act (“CERCLA”), 42 U.S.C. 9606, 9607(a), and 9613(g)(2). Under the proposed consent decree, the Defendants will perform the remedy selected by EPA to address contamination at the Site by, among other things, designing and constructing a landfill “cap” that will cover approximately 70 acres of the Site. Other significant remedial actions will include the design and construction of a system to address landfill gas, as well as a system to prevent leachate from contaminating groundwater. Additionally, the Defendants will reimburse EPA for its future response costs, but they will not reimburse EPA for its future oversight costs unless and until such costs, together with past responses costs and interim costs incurred before entry of the consent decree, exceed $8.37 million. The proposed consent decree will provide covenants not to sue to the Defendants, as well as to numerous other potentially responsible parties (“Other Settling Parties”) who have previously entered into settlement agreements with one or more of the Defendants and, in most instances, received indemnifications from them, provided that such Other Settling Parties (listed in Appendix E of the consent decree) submit signature pages agreeing to be bound by the consent decree and, if they own property likely affected by the remedial action, cooperate in the implementation of the consent decree.

The publication of this revised notice opens a new period for public comment on the proposed consent decree. Comments should be addressed to the Assistant Attorney General, Environment and Natural Resources Division, and should refer United States v. Bridgestone Americas Tire Operations, et al., Case No. 3:18-cv-00054 (S.D. Ohio), D.J. Ref. No. 90-11-3-11076. All comments must be submitted no later than thirty (30) days after the publication date of this revised notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will also provide a paper copy of the proposed consent decree upon written request and payment of reproduction costs. Please mail your request and payment to: Consent Decree Library, U.S. DOJ—ENRD, P.O. Box 7611, Washington, DC 20044-7611.

Please enclose a check or money order for $84.50 (338 pages at 25 cents per page reproduction cost) payable to the United States Treasury. For a paper copy without the Appendices and signature pages, the cost is $20.75.

Susan Akers,
Assistant Section Chief, Environmental Enforcement Section, Environment and Natural Resources Division.

[FR Doc. 2018-06080 Filed 3-26-18; 8:45 am]

BILLING CODE 4410-15-P